INTERNATIONAL TRADE COMMISSION

[Inv. No. 332-509; Inv. No. 332-510]

Small and Medium-Sized Enterprises: U.S. and EU Export Activities, and Barriers and Opportunities Experienced by U.S. Firms and Small and Medium-Sized Enterprises: Characteristics and Performance

AGENCY: United States International Trade Commission.

ACTION: Notice of time and place of additional public hearings in St. Louis, MO, and Portland, OR, and reaffirming of time and place of Washington, DC hearing.

SUMMARY: The Commission will hold a public hearing on these investigations in St. Louis, MO, beginning at 9:30 a.m. on March 10, 2010 at the Hilton St. Louis at the Ballpark, and in Portland, OR, beginning at 9:30 a.m. on March 12, 2010 at the Holiday Inn Portland Airport. As previously announced, the Commission will also hold a public hearing on these investigations in Courtroom A at the U.S. International Trade Commission Building, 500 E Street, SW., Washington, DC, beginning at 9:30 a.m. on Tuesday, February 9, 2010 (and continuing on February 10, 2010, if needed).

ADDRESSES: All written correspondence should be addressed to the Secretary, United States International Trade Commission, 500 E Street, SW., Washington, DC 20436. The public record for these investigations may be viewed on the Commission's electronic docket (EDIS) at http://www.usitc.gov/secretary/edis.htm.

FOR FURTHER INFORMATION CONTACT: Project Leaders Justino De La Cruz (202-205-3252 or justino.delacruz@usitc.gov) or Laura Bloodgood (202-708-4726 or laura.bloodgood@usitc.gov) for information specific to these investigations. For information on the legal aspects of these investigations, contact William Gearhart of the Commission's Office of the General Counsel (202-205-3091 or william.gearhart@usitc.gov). The media should contact Margaret O'Laughlin, Office of External Relations (202-205-1819 or margaret.olaughlin@usitc.gov). Hearing-impaired individuals may obtain information on this matter by contacting the Commission's TDD terminal at 202-205-1810. General information concerning the Commission may also be obtained by accessing its Internet server (http://www.usitc.gov). Persons with mobility impairments who will need special assistance in gaining access to the Commission should contact the Office of the Secretary at 202-205-2000.

Background Information: The hearings relate to the second and third of a series of three investigations that the Commission is conducting under section 332(g) of the Tariff Act of 1930 (19 U.S.C. 1332(g)) at the request of the United States Trade Representative (USTR). The Commission received the request for the investigations on October 6, 2009. The Commission delivered its report to the USTR on the first investigation, No. 332-508, Small and Medium-Sized Enterprises: Overview of Participation in U.S. Exports, on January 12, 2010, and it is available to the public at www.usitc.gov. The Commission is scheduled to deliver its reports to the USTR on the second and third investigations, investigation No. 332-509, Small and Medium-Sized Enterprises: U.S. and EU Export Activities, and Barriers and Opportunities Experienced by U.S. Firms, and investigation No. 332-510, Small and Medium-Sized Enterprises: Characteristics and Performance, by July 6, 2010, and October 6, 2010, respectively. Notices announcing institution of the three investigations were published in the Federal Registers of October 28, 2009 (74 FR 55581); December 1, 2009 (74 FR 62812); and December 11, 2009 (74 F.R. 65787). The second and third notices also announced the Washington, DC hearing and the intent to hold additional hearings in St. Louis, MO and Portland, OR.

Public Hearings: The times and places of the three hearings and deadlines for filing requests to appear and any pre- or post-hearing briefs or statements or summaries of testimony are as follows:

Washington, DC:

The hearing will be held in Courtroom A at the U.S. International Trade Commission Building, 500 E Street, SW., Washington, DC, beginning at 9:30 a.m. on Tuesday, February 9, 2010 (and continuing on February 10, 2010, if needed).

January 26, 2010: Deadline for filing requests to appear.

January 28, 2010: Deadline for filing pre-hearing briefs, statements, or summaries of testimony.

February 9, 2010: Public hearing (Washington, DC).

February 10, 2010: Public hearing, second day if needed.

February 23, 2010: Deadline for filing post-hearing briefs or statements.

St. Louis, MO:

The hearing will be held at the Hilton St. Louis at the Ballpark, One South Broadway, St. Louis, MO 63102, beginning at 9:30 a.m. local time on Wednesday, March 10, 2010.

February 24, 2010: Deadline for filing requests to appear.

February 26, 2010: Deadline for filing pre-hearing briefs, statements, or summaries of testimony.

March 10, 2010: Public hearing (St. Louis, MO).

March 26, 2010: Deadline for filing post-hearing briefs or statements.

Portland, OR:

The hearing will be held at the Holiday Inn Portland Airport, 8439 NE Columbia Boulevard, Portland, OR 97220, beginning at 9:30 a.m. local time on Friday, March 12, 2010.

February 26, 2010: Deadline for filing requests to appear.

March 2, 2010: Deadline for filing pre-hearing briefs, statements, or summaries of testimony.

March 12, 2010: Public hearing (Portland, OR).

March 26, 2010: Deadline for filing post-hearing briefs or statements.

The above hearings will be open to the public. Accordingly, persons testifying should not include confidential business information in their testimony. Any person desiring to submit confidential business information to the Commission in these investigations should do so in writing in accordance with the procedures set out in the “Written Submissions” section below.

To assist the Commission in the preparation of the two reports, the Commission is particularly interested in obtaining information and views on the following:

• The most significant constraints that U.S. SMEs face in their efforts to export.

• The strategies that SMEs have adopted to address or overcome those constraints.

• The benefits to SMEs of increased export opportunities from free trade agreements or other trading arrangements.

• The U.S. free trade agreements or other trading arrangements that have been most beneficial to SMEs that export.

• The characteristics of SMEs that export services.

• How exporting affects SME business performance.

• The extent to which U.S. SMEs have global operations.

• How SMEs based in the United States differ in their exporting activities from SMEs based in the European Union and other leading economies.

In the event that as of the close of business on the deadline for filing requests to appear no witnesses have filed requests to appear at a hearing, that hearing will be canceled. Any person interested in attending a hearing as an observer or non-participant may call the Office of the Secretary (202-205-2000) after the deadline for filing requests to appear for information concerning whether that hearing will be held.

Notice of Appearance: Written requests to appear at the Commission hearings must be filed with the Secretary to the Commission in Washington, DC by 5:15 p.m. Eastern Time of the filing deadline for the hearing at which the person wishes to appear. The request, which may be in the form of a letter and which should be on company or other appropriate stationery, should identify the hearing at which the person wishes to appear, the investigation to which their testimony pertains (it could be both investigations), their name, title, and company or other organizational affiliation (if any), address, telephone number, e-mail address, and industry or main line of business of the company if any they are representing. Requests to appear must be made by post mail or delivered in person (see “ADDRESSES”). The Commission will also accept requests to appear filed by e-mail to SMEhearings@usitc.gov, or through Laura Bloodgood at laura.bloodgood@usitc.gov. The Commission does not accept requests filed by fax.

Pre- and Post-Hearing Briefs And Statements, Summaries: Participants are encouraged to provide a pre-hearing brief or statement or, in lieu thereof, may provide a one-page summary of the testimony they plan to present. Such summaries will be placed in the public record and therefore should not include any confidential business information. Any confidential business information included in a pre-hearing brief or statement should be submitted in accordance with the procedures set forth below under “Written Submissions.” Post-hearing briefs and statements would generally be for the purpose of responding to matters raised at the hearing, including questions asked by the Commissioners or testimony presented by other interested parties.

Written Submissions: In lieu of or in addition to participating in the hearing, interested parties are invited to file written submissions concerning these investigations. All written submissions should be addressed to the Secretary to the Commission, and all such submissions (other than pre- and post-hearing statements) should be received not later than 5:15 p.m. Eastern Time, March 26, 2010. One signed original (or a copy so designated) and fourteen (14) copies of each document must be filed. In the event that confidential treatment of a document is requested, at least four (4) additional copies must be filed, in which the confidential information must be deleted (see below for further information regarding confidential business information). Written submissions may be filed by post mail or delivered in person (see ADDRESSES), or filed using the Commission's electronic filing procedure described below.

To use the Commission's electronic filing procedure, filers must first be registered users of the Commission's Electronic Document Information System (EDIS), accessible from the USITC Web site (http://www.usitc.gov/secretary/edis.htm). The Commission's rules for electronic filing are available in its Handbook on Electronic Filing Procedures (http://www.usitc.gov/secretary/fed_reg_notices/rules/handbook_on_electronic_filing.pdf). All written submissions must conform with the provisions of section 201.8 of the Commission's Rules of Practice and Procedure (19 CFR 201.8). Persons with questions regarding electronic filing and EDIS should contact the Office of the Secretary (202-205-2000).

Any submissions that contain confidential business information must also conform with the requirements of section 201.6 of the Commission's Rules of Practice and Procedure (19 CFR 201.6). Section 201.6 of the rules requires that the cover of the document and the individual pages be clearly marked as to whether they are the “confidential” or “non-confidential” version, and that the confidential business information be clearly identified by means of brackets. All written submissions, except for confidential business information, will be made available for inspection by interested parties.

In his request letter, the USTR stated that his office intends to make the Commission's reports available to the public in their entirety, and asked that the Commission not include any confidential business information or national security classified information in the reports that the Commission transmits to his office. Any confidential business information received by the Commission in these investigations and used in preparing this report will not be published in a manner that would reveal the operations of the firm supplying the information.

By order of the Commission.
Issued: January 29, 2010.
Marilyn R. Abbott,
Secretary to the Commission.

[FR Doc. 2010-2260 Filed 2-3-10; 8:45 am]

BILLING CODE 7020-02-P